DEPARTMENT OF LABOR

Employment and Training Administration

[TA-W-70,344]

Atlantic Southeast Airlines, a Subsidiary of Skywest, Inc., Airport Customer Service Division, Including On-Site Leased Workers of Delta Global Services, Inc., Fort Smith, AR; Notice of Negative Determination Regarding Application for Reconsideration

By application dated October 19, 2009, a petitioner requested administrative reconsideration of the Department's negative determination regarding eligibility to apply for Trade Adjustment Assistance (TAA), applicable to workers and former workers of the subject firm. The denial notice was signed on September 28, 2009 and will soon be published in the Federal Register.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination, based on the finding that imports of services like or directly competitive with the services performed by the workers of the subject firm did not contribute to worker separations at the subject facility and there was no shift or acquisition of the services from a foreign country during the period under investigation.

The petitioner alleged that the subject firm is located in a manufacturing center and provided a list of local companies and manufacturing plants representing various industries. The petitioner stated that these companies had been shifting their production abroad and downsizing their business. As a result the manufacturing companies have been certified eligible for Trade Adjustment Assistance (TAA). The petitioner concluded that because the business of the subject firm is “completely reliant on the manufacturing industry in our town”, and because the businesses “discontinued their flights with us due to their downsizing”, the workers of the subject firm should also be eligible for TAA as downstream producers to these certified companies.

In order to make an affirmative determination and issue a certification of eligibility to apply for adjustment assistance on the basis of the secondary impact, the workers' firm has to be a downstream producer which performs additional, value-added production processes or services directly for another firm for articles or services with respect to which a group of workers in such other firm has been certified.

The investigation revealed that workers of Atlantic Southeast Airlines, a subsidiary of Skywest, Inc., Airport Customer Service Division, Fort Smith, Arkansas provided airline customer services, including airport station management, ticketing and baggage. The workers of the subject firm did not perform additional, value-added production processes or services directly to any of the certified primary firms during the period under investigation. Thus the subject firm workers are not eligible for TAA as downstream producers under secondary impact.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 5th day of November 2009.
Elliott S. Kushner,
Certifying Officer, Division of Trade Adjustment Assistance.

[FR Doc. E9-29148 Filed 12-7-09; 8:45 am]

BILLING CODE 4510-FN-P